FEDERAL COMMUNICATIONS COMMISSION

[Report No. 2564]

Petitions for Reconsideration of Action in Rulemaking Proceedings

July 22, 2002.

Petitions for Reconsideration have been filed in the Commission's rulemaking proceedings listed in this Public Notice and published pursuant to 47 CFR 1.429(e). The full text of this document is available for viewing and copying in Room CY-A257, 445 12th Street, SW., Washington, DC or may be purchased from the Commission's copy contractor, Qualex International (202) 863-2893. Oppositions to these petitions must be filed by August 13, 2002. See section 1.4(b)(1) of the Commission's rules (47 CFR 1.4(b)(1)). Replies to an opposition must be filed within 10 days after the time for filing oppositions has expired.

Subject: In the matter of implementation of Sections of the Communications Act of 1934 as Amended (WT Docket No. 99-87).

Number of Petitions Filed: 1.

Subject: In the matter of telecommunications relay services and speech-to-speech services for individuals with hearing and speech disabilities (CC Docket No. 98-67).

Number of Petitions Filed: 2.

Marlene H. Dortch,
Secretary.

[FR Doc. 02-19064 Filed 7-26-02; 8:45 am]

BILLING CODE 6712-01-M